SMALL BUSINESS ADMINISTRATION

[Declaration of Disaster #3353]

State of Mississippi

Harrison County and the contiguous counties of Hancock, Jackson, Pearl River and Stone constitute a disaster area due to damages caused by Tropical Storm Allison that occurred on June 11, 2001. Applications for loans for physical damage as a result of this disaster may be filed until the close of business on August 27, 2001 and for economic injury until the close of business on March 26, 2002 at the address listed below or other locally announced locations: U.S. Small Business Administration, Disaster Area 2 Office, One Baltimore Place, Suite 300, Atlanta, GA 30308

The interest rates are:

| Percent
For physical damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 335308 and for economic injury the number assigned is 9M1100.

(Catalog of Federal Domestic Assistance Program Nos. 59002 and 59008.)

Dated: June 27, 2001.
John Whitmore,
Acting Administrator.

[FR Doc. 01-16726 Filed 7-3-01; 8:45 am]

BILLING CODE 8025-01-P